DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/READROOM/PETITION.HTM. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2014-023-C.

FR Notice: 79 FR 45466 (8/5/2014).

Petitioner: ACI Tygart Valley, 1200 Tygart Drive, Grafton, West Virginia 26354.

Mine: Leer Mine #1, MSHA I.D. No. 46-09192, located in Taylor County, West Virginia.

Regulation Affected: 30 CFR 75.500(d) (Permissible electric equipment).

• Docket Number: M-2014-029-C.

FR Notice: 79 FR 64625 (10/30/2014).

Petitioner: North American Drillers, LLC, 130 Meadow Ridge Road, Suite 22, Mount Morris, Pennsylvania 15349.

Mines: Tunnel Ridge Mine, MSHA I.D. No. 46-08864, located in Ohio County, West Virginia; Mountain View Mine, MSHA I.D. No. 46-09028, located in Tucker County, West Virginia; Leer Mine, MSHA I.D. No. 46-09192, Taylor County, West Virginia; Monongalia County Mine, MSHA I.D. No. 46-01968, located in Monongalia County, West Virginia; Ohio County Mine, MSHA I.D. No. 46-01436, located in Ohio County, West Virginia; Harrison County Mine, MSHA I.D. No. 46-01318, located in Harrison County, West Virginia; Marshall County Mine, MSHA I.D. No. 46-01437, located in Marshall County, West Virginia; Marion County Mine, MSHA I.D. No. 46-01433, located in Marion County, West Virginia; Powhatan #6 Mine, MSHA I.D. No. 33-01159, located in Belmont County, Ohio; and Federal #2 Mine, MSHA I.D. No. 46-01456, located in Monongalia County, West Virginia.

Regulation Affected: 30 CFR 77.1914(a) (Electrical equipment).

• Docket Number: M-2015-003-C.

FR Notice: 80 FR 17502 (4/1/2015).

Petitioner: Rosebud Mining Company, P.O. Box 1025, Northern Cambria, Pennsylvania 15714.

Mine: Coral-Graceton Mine, MSHA I.D. No. 36-09595 and Crooked Creek Mine, MSHA I.D. No. 36-09972, both located in Indiana County, Pennsylvania.

Regulation Affected: 30 CFR 75.503 (Permissible electric face equipment; maintenance) and 18.35(a)(5)(i) (Portable (trailing) cables and cords).

• Docket Number: M-2015-023-C.

FR Notice: 80 FR 77024 (12/11/2015).

Petitioner: M-Class Mining, LLC, 11351 N. Thompsonville Road, Macedonia, Illinois 62860.

Mine: MC #1 Mine, MSHA I.D. No. 11-03189, located in Franklin County, Illinois.

Regulation Affected: 30 CFR 75.503 (permissible electric face equipment; maintenance) and 18.35 (Portable (trailing) cables and cords).

• Docket Number: M-2015-027-C.

FR Notice: 81 FR 3161 (1/20/2016).

Petitioner: Peabody Midwest Mining, LLC, 115 Grayson Lane, Eldorado, Illinois 62930.

Mine: Wildcat Hills Underground Mine, MSHA I.D. No. 11-03156, located in Saline County, Illinois.

Regulation Affected: 30 CFR 75.500(d) (Permissible electric equipment).

• Docket Number: M-2015-028-C.

FR Notice: 81 FR 8999 (2/23/2016).

Petitioner: Peabody Midwest Mining, LLC, 115 Grayson Lane, Eldorado, Illinois 62930.

Mine: Wildcat Hills Underground Mine, MSHA I.D. No. 11-03156, located in Saline County, Illinois.

Regulation Affected: 30 CFR 75.507-1(a) (Electric equipment other than power-connection points; outby the last open crosscut; return air; permissibility requirements).

• Docket Number: M-2016-001-C.

FR Notice: 81 FR 8998 (2/23/2016).

Petitioner: Peabody Energy Company, 12968 Illinois State Route 13, Coulterville, Illinois 62237.

Mine: Gateway North Mine, MSHA I.D. No. 11-03235, located in Randolph County, Illinois.

Regulation Affected: 30 CFR 75.503 (permissible electric face equipment; maintenance) and 18.35 (Portable (trailing) cables and cords).

• Docket Number: M-2016-005-C.

FR Notice: 81 FR 11843 (3/7/2016).

Petitioner: Clinton M Wynn Mining, 419 Shingara Lane, Sunbury, Pennsylvania 17801.

Mine: Bottom Rock Slope, MSHA I.D. No. 36-10110, located in Northumberland County, Pennsylvania.

Regulation Affected: 30 CFR 75.1200(d) & (i) (Mine map).

• Docket Number: M-2016-006-C.

FR Notice: 81 FR 11843 (3/7/2016).

Petitioner: Clinton M Wynn Mining, 419 Shingara Lane, Sunbury, Pennsylvania 17801.

Mine: Bottom Rock Slope, MSHA I.D. No. 36-10110, located in Northumberland County, Pennsylvania.

Regulation Affected: 30 CFR 75.1202 and 75.1202-1(a) (Temporary notations, revisions and requirements).

• Docket Number: M-2016-007-C.

FR Notice: 81 FR 11843 (3/7/2016).

Petitioner: Clinton M Wynn Mining, 419 Shingara Lane, Sunbury, Pennsylvania 17801.

Mine: Bottom Rock Slope, MSHA I.D. No. 36-10110, located in Northumberland County, Pennsylvania.

Regulation Affected: 30 CFR 75.1400 (Hoisting equipment; general).

• Docket Number: M-2013-003-M.

FR Notice: 78 FR 11232 (2/15/2013).

Petitioner: Badger Mining Corporation, N7815 County Highway P, Taylor, Wisconsin 54659.

Mine: Taylor Plant, MSHA I.D. No. 47-02555, P.O. Box 160, Taylor, Wisconsin 54659, located in Jackson County, Wisconsin.

Regulation Affected: 30 CFR 56.13020 (Use of compressed air).

• Docket Number: M-2015-007-M.

FR Notice: 81 FR 4337 (1/26/2016).

Petitioner: Frontier-Kemper Constructors, Inc., 1695 Allen Road, Evansville, Indiana 47710-3394.

Mine: Solvay Chemicals, Inc., P.O. Box 1167, 400 County Road 85, Green River, Wyoming 82935, MSHA I.D. No. 48-01295, located in Sweetwater County, Wyoming.

Regulation Affected: 30 CFR 57.22606(a) and (c) (Explosive materials and blasting units (III mines).

Sheila McConnell,
Director, Office of Standards, Regulations, and Variances.

[FR Doc. 2016-23625 Filed 9-29-16; 8:45 am]

BILLING CODE 4520-43-P